DEPARTMENT OF COMMERCE

International Trade Administration

[A-822-804, A-560-811, A-449-804, A-841-804, A-570-860, A-455-803, A-580-844, A-823-809]

Notice of Postponement of Preliminary Antidumping Duty Determinations: Steel Concrete Reinforcing Bars From Belarus, Indonesia, Latvia, Moldova, the People's Republic of China, Poland, the Republic of Korea and Ukraine

AGENCY: Import Administration, International Trade Administration, Department of Commerce.

ACTION: Postponement of Preliminary Antidumping Duty Determinations.

EFFECTIVE DATE: November 21, 2000.

FOR FURTHER INFORMATION CONTACT: Ronald Trentham or Michele Mire, AD/CVD Enforcement, Office IV, Group II, Import Administration, International Trade Administration, U.S. Department of Commerce, 14th Street and Constitution Avenue NW, Washington, DC 20230; telephone (202) 482-6320 or (202) 482-4711, respectively.

SUMMARY: The Department of Commerce (the Department) is postponing the preliminary determinations in the antidumping duty investigations of steel concrete reinforcing bars from Belarus, Indonesia, Latvia, Moldova, the People's Republic of China, Poland, the Republic of Korea and Ukraine. The deadline for issuing the preliminary determinations in these investigations is now January 16, 2001.

SUPPLEMENTARY INFORMATION:

The Applicable Statute and Regulations

Unless otherwise indicated, all citations to the Tariff Act of 1930, as amended (the Act), are references to the provisions effective January 1, 1995, the effective date of the Uruguay Round Agreements Act. In addition, unless otherwise indicated, all citations to the Department's regulations are to the regulations at 19 CFR Part 351 (2000).

Background

On July 25, 2000, the Department initiated antidumping duty investigations of steel concrete reinforcing bars from Austria, Belarus, Indonesia, Japan, Latvia, Moldova, the People's Republic of China, Poland, the Republic of Korea, the Russian Federation, Ukraine and Venezuela for the period October 1, 1999 through March 31, 2000 (65 FR 45754). The notice stated that the Department would issue its preliminary determinations no later than 140 days after the date of initiation.

Postponement of Preliminary Determinations

On November 9, 2000, the Department received a request for postponement of the preliminary determinations from the Rebar Trade Action Coalition (hereinafter, the petitioner), in accordance with 19 CFR 351.205(e). There are no compelling reasons for the Department to deny the petitioner's request. Therefore, pursuant to section 733(c) of the Act, the Department is postponing the deadline for issuing these determinations until January 16, 2001.

This notice of postponement is in accordance with section 733(c)(2) of the Act and 19 CFR 351.205(e).

Dated: November 15, 2000.
Holly A. Kuga,
Acting Assistant Secretary for Import Administration.

[FR Doc. 00-29794 Filed 11-20-00; 8:45 am]

BILLING CODE 3510-DS-P